Title 3—

The President

Proclamation 7697 of August 28, 2003

Family Day, 2003

By the President of the United States of America

A Proclamation

Children thrive in loving families where they are taught, nurtured, and comforted. By spending time with our children and stressing the importance of making the right choices, parents and other family members help them develop into confident, successful individuals.

Families can help secure a healthy tomorrow for their children by providing guidance, staying involved, and serving as role models. I am committed to supporting strong families and strong marriages to help ensure that every child grows up in a safe, loving family. Statistics show that children from two-parent families are less likely to end up in poverty, drop out of school, become addicted to drugs, have a child out of wedlock, suffer abuse, or become a violent criminal. Because stable families should be the central goal of American welfare policy, I have proposed spending up to $300 million a year to find the most effective programs to strengthen marriage.

Parents play a critical role in discouraging harmful behavior such as experimenting with alcohol, drugs, and tobacco. Research shows that teens often listen to their parents when it comes to decisions about harmful substances and risky behaviors. Regular family activities provide opportunities for parents to communicate important messages and enhance their relationships with their children. Recent studies from the National Center on Addiction and Substance Abuse at Columbia University found that teens from families who eat dinner together were less likely to use illegal drugs, alcohol, and cigarettes, while teenagers who rarely eat dinner with their parents were more likely to engage in these unhealthy activities.

Families and all Americans can act together to educate our youth about the dangers of drugs and alcohol and help them grow into healthy, responsible, compassionate citizens. In order to ensure a brighter future for our Nation, and safe, healthy, and happy lives for our children, our children must learn that avoiding harmful substances is an ongoing responsibility. As we work to educate our next generation about making healthy choices, we renew our commitment to the American family.

NOW, THEREFORE, I, GEORGE W. BUSH, President of the United States of America, by virtue of the authority vested in me by the Constitution and laws of the United States, do hereby proclaim September 22, 2003, as Family Day. I call upon the people of the United States to observe this day by engaging in activities to strengthen the relationships between parents and children and help fight against substance abuse and risky behaviors.

IN WITNESS WHEREOF, I have hereunto set my hand this twenty-eighth day of August, in the year of our Lord two thousand three, and of the Independence of the United States of America the two hundred and twenty-eighth.

B

[FR Doc. 03-22542

Filed 9-2-03; 8:45 am]

Billing code 3195-01-P